NUCLEAR REGULATORY COMMISSION

TENNESSEE VALLEY AUTHORITY

[Docket No. 50-391-OL; ASLBP No. 15-938-01-0L-BD01]

Establishment of Atomic Safety and Licensing Board

Pursuant to delegation by the Commission, see 37 FR 28,710 (Dec. 29, 1972), and the Commission's regulations, see e.g., 10 CFR 2.104, 2.105, 2.300, 2.309, 2.313, 2.318, 2.321, notice is hereby given that an Atomic Safety and Licensing Board (Board) is being established to preside over the following proceeding:

Tennessee Valley Authority (Watts Bar Nuclear Plant, Unit 2)

This proceeding concerns motions, dated February 5, 2015 and filed February 6, 2015, by Southern Alliance for Clean Energy to (1) reopen the record; and (2) admit a new contention in the captioned matter regarding the updated application by Tennessee Valley Authority for a facility operating license for Watts Bar Nuclear Plant, Unit 2, to be located in Rhea County, Tennessee.

The Board is comprised of the following administrative judges:

Paul S. Ryerson, Chairman, Atomic Safety and Licensing Board Panel, U.S. Nuclear Regulatory Commission, Washington, DC 20555-0001.

Dr. Gary S. Arnold, Atomic Safety and Licensing Board Panel, U.S. Nuclear Regulatory Commission, Washington, DC 20555-0001.

Dr. Richard E. Wardwell, Atomic Safety and Licensing Board Panel, U.S. Nuclear Regulatory Commission, Washington, DC 20555-0001.

All correspondence, documents, and other materials shall be filed in accordance with the NRC E-Filing rule. See 10 CFR. 2.302.

Rockville, Maryland.
Dated: February 23, 2015.
E. Roy Hawkens,
Chief Administrative Judge, Atomic Safety and Licensing Board Panel.

[FR Doc. 2015-04130 Filed 2-26-15; 8:45 am]

BILLING CODE 7590-01-P